NATIONAL SCIENCE FOUNDATION

Agency Information Collection Activities: Comment Request

AGENCY: National Science Foundation.

ACTION: Notice.

SUMMARY: The National Science Foundation (NSF) is announcing plans to request renewal of the Generic Clearance of the National Center for Science & Engineering Statistics Survey Improvement Projects (3145-0174). In accordance with the requirement of section 3506(c)(2)(A) of the Paperwork Reduction Act of 1995 (Pub. L. 104-13), we are providing opportunity for public comment on this action. After obtaining and considering public comment, NSF will prepare the submission requesting that OMB approve clearance of this collection for three years.

Comments: Comments are invited on (a) whether the proposed collection of information is necessary for the proper performance of the functions of the NSF, including whether the information shall have practical utility; (b) the accuracy of the NSF's estimate of the burden of the proposed collection of information; (c) ways to enhance the quality, use, and clarity of the information on respondents, including through the use of automated collection techniques or other forms of information technology; and (d) ways to minimize the burden of the collection of information on those who are to respond, including through the use of appropriate automated, electronic, mechanical, or other technological collection techniques or other forms of information technology.

DATES: Written comments on this notice must be received by April 18, 2016 to be assured of consideration. Comments received after that date will be considered to the extent practicable.

For Additional Information or Comments: Contact Suzanne H. Plimpton, Reports Clearance Officer, National Science Foundation, 4201 Wilson Boulevard, Suite 295, Arlington, Virginia 22230; telephone (703) 292-7556; or send email to splimpto@nsf.gov. Individuals who use a telecommunications device for the deaf (TDD) may call the Federal Information Relay Service (FIRS) at 1-800-877-8339, which is accessible 24 hours a day, 7 days a week, 365 days a year (including federal holidays). You also may obtain a copy of the data collection instrument and instructions from Ms. Plimpton.

SUPPLEMENTARY INFORMATION:

Title of Collection: Generic Clearance of the National Center for Science & Engineering Statistics Improvement Projects.

OMB Control Number: 3145-0174.

Expiration Date of Current Approval: May 31, 2016.

Type of Request: Intent to seek approval to extend an information collection for three years.

Abstract. Established within the National Science Foundation by the America COMPETES Reauthorization Act of 2010 § 505, codified in the National Science Foundation Act of 1950, as amended, the National Center for Science & Engineering Statistics (NCSES) serves as a central Federal clearinghouse for the collection, interpretation, analysis, and dissemination of objective data on science, engineering, technology, research and development for use by practitioners, researchers, policymakers, and the public. NCSES conducts about a dozen nationally representative surveys to obtain the data for these purposes. The Generic Clearance will be used to ensure that the highest quality data are obtained from these surveys. State of the art methodology will be used to develop, evaluate, and test questionnaires and survey concepts as well as to improve survey methodology. This may include field or pilot tests of questions for future large scale surveys, as needed. The Generic Clearance will also be used to test and evaluate data dissemination tools and methods, in an effort to improve access for data users.

Use of the Information. The purpose of these studies is to use the latest and most appropriate methodology to improve NCSES surveys, evaluate new data collection efforts, and evaluate data dissemination tools and mechanisms. Methodological findings may be presented externally in technical papers at conferences, published in the proceedings of conferences, or in journals. Improved NCSES surveys, data collections, and data dissemination will help policymakers in decisions on research and development funding, graduate education, and the scientific and technical workforce, as well as contributing to reduced survey costs.

Expected Respondents. The respondents will be from industry, academia, nonprofit organizations, members of the public, and State, local, and Federal governments. Respondents will be either individuals or institutions, depending on the topic under investigation. Qualitative procedures will generally be conducted in person, online (using Skype, Webex, or other conferencing tools), or over the phone. Quantitative procedures may be conducted using mail, Web, email, or phone modes, depending on the topic under investigation. Up to 8,680 respondents will be contacted across all projects. No respondent will be contacted more than twice in one year under this generic clearance. Every effort will be made to use technology to limit the burden on respondents from small entities.

Both qualitative and quantitative methods will be used to improve NCSES's current data collection instruments and processes and to reduce respondent burden, as well as to develop new surveys and new or improved data dissemination tools. Qualitative methods include, but are not limited to expert review; exploratory, cognitive, and usability interviews; focus groups; and respondent debriefings. Cognitive and usability interviews may include the use of scenarios, paraphrasing, card sorts, vignette classifications, and rating tasks. Quantitative methods include, but are not limited to, telephone surveys; behavior coding, split panel tests, and field tests.

Estimate of Burden. NCSES estimates that a total reporting and recordkeeping burden of 11,180 hours will result from activities to improve its surveys. The calculation is shown in Table 1.

Table 1—Potential Surveys for Improvement Projects, With the Number of Respondents and Burden Hours
| Number of respondents | Number of hours
Graduate Student Survey | 2000 | 2500
SESTAT Surveys (National Survey of College Graduates; Survey of Doctorate Recipients) | 1000 | 500
Early Career Doctorate Survey | 500 | 1000
Survey of Earned Doctorates | 600 | 600
Higher Education Research & Development Survey | 300 | 540
State Government Research & Development Survey | 150 | 300
Survey of Nonprofit Research Activities | 230 | 415
Business Research & Development and Innovation Survey | 50 | 150
Microbusiness Survey | 250 | 500
Survey of Scientific & Engineering Facilities | 400 | 400
Innovation Survey | 1500 | 3000
Public Understanding of Science & Engineering Survey | 550 | 125
Data dissemination tools and mechanisms | 150 | 150
Other surveys and projects not specified | 1000 | 1000
Total | 8,680 | 11,180

Dated: February 3, 2016.
Suzanne H. Plimpton,
Reports Clearance Officer, National Science Foundation.

[FR Doc. 2016-03029 Filed 2-12-16; 8:45 am]

BILLING CODE 7555-01-P